DEPARTMENT OF COMMERCE

National Oceanic and Atmospheric Administration

Hydrographic Services Review Panel Meeting

AGENCY: National Ocean Service, National Oceanic and Atmospheric Administration (NOAA), Department of Commerce.

ACTION: Notice of open meeting (via webinar and teleconference).

SUMMARY: The Hydrographic Services Review Panel (HSRP) is a Federal Advisory Committee established to advise the Under Secretary of Commerce for Oceans and Atmosphere on matters related to the responsibilities and authorities set forth in section 303 of the Hydrographic Services Improvement Act of 1998, as amended, and such other appropriate matters that the Under Secretary refers to the Panel for review and advice.

Date and Time: The public meeting will be held on May 7-8, 2013. May 7th from 1:00 p.m. to 5:00 p.m. EDT; May 8th from 1:00 p.m. to 5:00 p.m. EDT.

FOR FURTHER INFORMATION CONTACT: Kathy Watson, HSRP Program Coordinator, National Ocean Service (NOS), Office of Coast Survey, NOAA (N/CS), 1315 East West Highway, Silver Spring, Maryland 20910; Telephone: 301-713-2770 ext. 158; Fax: 301-713-4019; Email: Kathy.Watson@noaa.gov or visit the NOAA HSRP Web site at http://nauticalcharts.noaa.gov/ocs/hsrp/hsrp.htm.

SUPPLEMENTARY INFORMATION: The HSRP meeting will be held via webinar and teleconference. Members of the public who wish to participate in the meeting must register in advance by April 26, 2013. Please register by contacting Kathy Watson, HSRP Program Coordinator at email: Kathy.Watson@noaa.gov or tel: (301) 713-2770 ext. 158. Web and teleconference information will be provided to registrants prior to the meeting. While the meeting will be open to the public, web and teleconference capacity may be limited.

The meeting will include an opportunity for public comment. A 15 minute public comment period is scheduled near the end of the meeting on both days. Public comment periods will be included in the final agenda published before April 30, 2013, on the HSRP Web site listed above. Comments will be recorded. Written comments should be submitted to Kathy.Watson@noaa.gov by April 30, 2013. Written comments submitted by this date will be reviewed by the HSRP and discussed at the meeting. Written comments received after April 30, 2013, will be distributed to the HSRP, but may not be reviewed by the HSRP until the day of the web/teleconference meeting.

Matters To Be Considered: Information to be presented for discussion includes updates on: (1) FY13 Appropriations, FY14 Budget, Sandy Supplemental funding, and legislative updates; (2) Committee on Marine Transportation System; (3) Integrated Ocean and Coastal Mapping; and (4) NOAA Fleet Recapitalization Plan. Other matters being developed for discussion include activities relating to hydrography, geodesy, coastal mapping, and tides, currents and water levels, as well as administrative matters pertaining to the HSRP.

Dated: April 17, 2013.
Christopher C. Cartwright,
Associate Assistant Administrator for Management and CFO/CAO, Ocean Services and Coastal Zone Management, National Oceanic and Atmospheric Administration.

[FR Doc. 2013-09490 Filed 4-22-13; 8:45 am]

BILLING CODE 3510-JE-P